DEPARTMENT OF THE INTERIOR

Fish and Wildlife Service

Notice of Availability, Draft Restoration Plan and Environmental Assessment

AGENCY: Fish and Wildlife Service, Department of the Interior.

ACTION: Notice of availability.

SUMMARY: The U.S. Fish & Wildlife Service (Service), on behalf of the U.S. Department of the Interior (DOI), as a Natural Resource Trustee (Trustee), announces the release for public review of the Draft Restoration Plan and Environmental Assessment (RP/EA) for the Charles George Landfill Superfund Site in Tyngsborough, Massachusetts. The Draft RP/EA describes the DOI's proposal to restore natural resources injured as a result of chemical contamination at the Charles George Landfill Superfund Site.

DATES: Written comments must be submitted on or before December 14, 2001.

ADDRESSES: Requests for copies of the Draft RP/EA may be made to: Laura Eaton-Poole, U.S. Fish and Wildlife Service, New England Field Office c/o Great Meadows National Wildlife Refuge, Weir Hill Road, Sudbury, Massachusetts, 01776. Copies are also available on the internet at: http:// greatmeadows.fws.gov/charlesgeorge.html.

Written comments or materials regarding the Draft RP/EA should be sent to the same address.

FOR FURTHER INFORMATION CONTACT: Laura Eaton-Poole, U.S. Fish and Wildlife Service, New England Field Office c/o Great Meadows National Wildlife Refuge, Weir Hill Road, Sudbury, Massachusetts, 01776. Interested parties may also call 978-443-4661, extension 17, or send email to Laura_Eaton@fws.gov for further information.

SUPPLEMENTARY INFORMATION: Under the authority of the Comprehensive Environmental Response, Compensation, and Liability Act (CERCLA) of 1980 as amended, commonly known as Superfund, (42 U.S.C. 9601 et seq.), “* * * (Trustees) may assess damages to natural resources resulting from a discharge of oil or a release of a hazardous substance * * * and may seek to recover those damages.” Natural resource damage assessments are separate from the cleanup actions undertaken at a hazardous waste site, and provide a process whereby the Trustees can determine the proper compensation to the public for injury to natural resources.

Three natural resource trustees settled with the Potentially Responsible Parties for injuries to natural resources due to releases of hazardous substances from the Charles George Landfill Superfund Site: DOI recovered $299,916 for injuries to migratory birds that use wetlands; the National Oceanic and Atmospheric Administration recovered $134,624 for potential injuries to anadromous and catadromous fish in the Merrimack River; and the Commonwealth of Massachusetts recovered $918,900 for injuries to wetlands and groundwater. The total recovery of damages and future oversight expenses for all the Trustees was $1,353,440. The three Trustees signed a Memorandum of Agreement (MOA) in recognition of the common interests to restore, replace and/or acquire the equivalent natural resources which were injured, destroyed, or lost by the releases of hazardous substances. The MOA provides a framework for the development of a Trustee Council that cooperatively develops and implements a Restoration Plan.

The Draft RP/EA is being released in accordance with section 111(i) of CERCLA, 42 U.S.C. 9611(i) and the National Environmental Policy Act. The Draft RP/EA describes a number of natural resource restoration, acquisition, and protection alternatives identified by the Charles George Natural Resources Trustee Council (Trustee Council), and evaluates each of the possible alternatives based on all relevant considerations. The Trustee Council's Preferred Alternative has two parts: (1) The settlement funds will be used to protect properties adjacent to or near the areas of impact and; (2) the settlement funds will be used to contribute to the anadromous fish restoration effort in the Merrimack River Watershed through the funding of stocking and monitoring of alewife in the Concord River in Massachusetts, and contributing to the funding of the construction of a fish ladder at a dam on the Concord River which is an impediment to upstream migration of migratory fish. Details regarding the proposed projects are contained in the Draft RP/EA.

Interested members of the public are invited to review and comment on the Draft RP/EA. Copies of the Draft RP/EA are available from the Service's New England Field Office c/o Great Meadows National Wildlife Refuge, Weir Hill Road, Sudbury, Massachusetts, 01776, or from the Tyngsborough Public Library, 25 Bryants Lane, Tyngsborough, Massachusetts, 01879. All comments received on the Draft RP/EA will be considered and a response provided either through revision of the Draft RP/EA and incorporation into the Final Restoration Plan and Environmental Assessment, or by letter to the commentor.

Author: The primary author of this notice is Laura Eaton-Poole, U.S. Fish and Wildlife Service, New England Field Office, c/o Great Meadows National Wildlife Refuge, Weir Hill Road, Sudbury, Massachusetts, 01776.

Authority: The authority for this action is the Comprehensive Environmental Response, Compensation, and Liability Act (CERCLA) of 1980 as amended, commonly known as Superfund, (42 U.S.C. 9601 et seq.).

Dated: October 10, 2001.
Joseph J. Dowhan,
Acting Regional Director, Region 5, U.S. Fish & Wildlife Service.

[FR Doc. 01-26988 Filed 10-29-01; 8:45 am]

BILLING CODE 4310-55-P ]